DEPARTMENT OF ENERGY

Questions Concerning Technology Transfer Practices at Department of Energy (DOE) Laboratories

AGENCY: Department of Energy.

ACTION: Notice of extension of comment period.

SUMMARY: The DOE published on November 26, 2008, in the Federal Register, a notice of inquiry concerning technology practices at DOE laboratories. The DOE invited comments to published questions concerning technology transfer practices at DOE laboratories. The comment period was to continue for 60 days from the date of the publication of the Federal Register notice (till January 26, 2009). This Federal Register notice extends the comment period till March 26, 2009, to allow additional time for the public to respond to the questions raised in the Notice of Inquiry.

DATES: The comment period has been extended to March 26, 2009.

ADDRESSES: Comments may be submitted electronically at: GC-62@hq.doe.gov; or by mail at: Office of the Assistant General Counsel for Technology Transfer and Intellectual Property, U.S. Department of Energy, 1000 Independence Ave., SW., Washington, DC 20585. ATTN: TECHNOLOGY TRANSFER QUESTIONS.

FOR FURTHER INFORMATION CONTACT: Paul A. Gottlieb, Assistant General Counsel for Technology Transfer and Intellectual Property, U.S. Department of Energy, Forrestal Building, Room 6F-067, 1000 Independence Ave., SW., Washington, DC 20585; Telephone: (202) 586-3439.

Issued in Washington, DC, on January 16, 2009.
Devon Streit,
Office of Science.

[FR Doc. E9-1562 Filed 1-23-09; 8:45 am]

BILLING CODE 6450-01-P